SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Fax: (202) 395-6974

(SSA), Social Security Administration, DCFAM, Attn: Reports Clearance Officer, 1338 Annex Building, 6401 Security Blvd., Baltimore, MD 21235, Fax: (410) 965-6400

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Reporting Events—SSI—20 CFR 416.701-.732-0960-0128. SSA administers Federal Supplemental Security Income (SSI) benefits under Title XVI of the Social Security Act. SSI is a public assistance program that provides benefits to individuals who are disabled, blind, or aged and who have limited income and resources. To assure proper administration of SSI benefits, SSA periodically requests information from individuals to reevaluate their continuing SSI eligibility and payment amount using Form SSA-8150-EV. The form serves as a reminder to individuals as to what they need to report in order to retain their benefits. Form SSA-8150-EV provides individuals with a way to report changes in their circumstances in writing. SSA uses the reported changes to determine SSI eligibility and correct payment amounts.

Type of Request: Extension of an approved OMB information collection.

Number of Respondents: 30,180.

Frequency of Response: 1.

Average Burden Per Response: 5 minutes.

Estimated Annual Burden: 2,515 hours.

2. Cessation or Continuance of Disability or Blindness Determination and Transmittal—20 CFR 404.1615, 20 CFR 404.1512, and 20 CFR 404.1588-1599—0960-0442. Form SSA-833-C3/U3 is used by Disability Determination Services (DDS) to prepare continuance and cessation determinations of disability or blindness on Title II claims. The information is used in the course of the Federal SSA quality review of the determination. Form SSA-833-C3/U3 is also used to provide for SSA input on automated systems controls, e.g. establish and or cancel diary controls, to establish a permanent longitudinal history of the claim, and to supply a statistical base to provide aggregate program information to SSA administrators, Congress, and the President.

Type of Request: Extension of an approved OMB information collection.

Number of Respondents: 303,564.

Frequency of Response: 1.

Average Burden Per Response: 30 minutes.

Estimated Annual Burden: 151,782 hours.

3. Application to Collect a Fee for Payee Services—0960-NEW. Information requested on Form SSA-445 will be provided by the fee for payee services applicant. SSA will be the only user of this information. By using Form SSA-445, SSA will be able to determine whether the applicant meets the requirements to become a fee for service organizational payee, and if the applicant has provided all the information and documentation required. Based on the information provided on Form SSA-445, SSA will issue a determination authorizing or denying permission to collect fees for payee services.

Type of Request: New information collection.

Number of Respondents: 100.

Frequency of Response: 1.

Average Burden Per Response: 3 minutes.

Estimated Annual Burden: 5 hours.

4. Agreement to Sell Property—20 CFR 416.1240-1245—0960-0127. Individuals or couples who are otherwise eligible for SSI benefits, but who's resources exceed the allowable limit, may receive conditional payments if they agree to dispose of the excess non-liquid resources and make repayment. Form SSA-8060-U3 is used to document this agreement and to ensure that the individuals understand their obligations. Respondents are applicants and recipients of SSI benefits.

Type of Request: Extension of an OMB-approved information collection.

Number of Respondents: 20,000.

Frequency of Response: 1.

Average Burden Per Response: 10 Minutes.

Estimated Annual Burden: 3,333 Hours.

5. Epidemiological Research Request—20 CFR 401.165—0960-NEW. Section 311 of the Social Security Independence and Program Improvements Act of 1994 directed SSA to provide support to health researchers involved in epidemiological research. Specifically, when the study is determined to contribute to a national health interest, SSA will furnish information regarding whether a study subject is shown on the SSA administrative records as being alive or deceased (vital status). SSA will recoup all expenses incurred in providing this information. SSA collects information from health researchers in order to provide the data required and to collect fees. Respondents are applicants for vital status information.

Type of Request: Collection in use without OMB number.

Number of Respondents: 25.

Frequency of Response: 1.

Average Burden Per Response: 120 minutes.

Estimated Annual Burden: 50 hours.

6. Student Reporting Form—20 CFR 404.367, 404.368, 404.415, 404.434, 404.452(b)(2)—0960-0088. Form SSA-1383 is used by Social Security student beneficiaries to report events or changes that may affect continuing entitlement to these benefits. The respondents are Social Security student beneficiaries.

Type of Request: Revision of an OMB-approved information collection.

Number of Respondents: 75,000.

Frequency of Response: 1.

Average Burden Per Response: 6 minutes.

Estimated Annual Burden: 7,500 hours.

7. Electronic Benefit Verification Information—20 CFR 401.40—0960-0595. SSA provides verification of benefits, when requested, to individuals receiving Title II and/or Title XVI benefits. In order to provide to the public an easy and convenient means of requesting benefit information, SSA has developed an electronic request form that will allow persons to request the information through the Internet. The information collected on the electronic screens will be used by SSA to process the request for a benefit verification statement. To ensure appropriate confidentiality, the statement will be mailed to the recipient/beneficiary address shown in SSA's records. The respondents are Title II and XVI recipients/beneficiaries who request benefit verification information using the Internet.

Type of Request; Extension of an approved OMB information collection

Number of Respondents: 133,920.

Frequency of Response: 1.

Average Burden Per Response: ½ minute.

Estimated Annual Burden: 1,116 hours.

8. Listing of Impairments—Part 404, Subpart P, Appendix I—0960-0642.

Background

The Listing of Impairments (the listings), Part 404, Subpart P, Appendix I, describes for each of the major body systems, impairments which are severe enough to prevent an individual from doing any gainful activity. As part of the listings, we provide an introductory text, which identifies specific requirements that affect the body system, such as documentation requirements and other factors that must be considered when evaluating impairments within that body system. These can include requirements for medical and other evidence. This clearance request covers sections in the following listings that contain information collection requirements: The regulations for the musculoskeletal body system contain reporting requirements at sections 1.00B, 1.00C, 1.00D, 1.00E, 1.00H, 1.00I, 1.00J, 1.00K, 1.00P, 14.09A, 101.00B, 101.00C, 101.00D, 101.00E, 101.00H, 101.00I, 101.00J, 101.00P, and 114.09A. The regulations for the cardiovascular body system contain reporting requirements at sections 4.00B, 4.00C, 4.00D, 4.00E, 4.00F, 4.00G, 4.02A, 104.00B, 104.00C, 104.00E, and 104.06. The regulations for the genitourinary body system contain reporting requirements at sections 6.00C, 6.00E, 6.00G, 106.00C, 106.00E, and 106.00G. The regulations for the skin body system contain reporting requirements at sections 8.00C, 8.00D, 108.00B, 108.00C, and 108.00D. The regulations for the multiple body system contain reporting requirements at sections 10.00B, 10.00C, 110.00B, and 110.00C. The regulations for Amyotrophic Lateral Sclerosis (ALS) contain reporting requirements at sections 11.00G and 11.10. The regulations for the malignant neoplastic diseases contain reporting requirements at 13.00B, 13.00D, 13.00E, 13.00G, 13.00K, 113.00B, 113.00D, 113.00E, 113.00G, and 113.00K.

The Information Collection

The medical evidence documentation described in the listings is used by State DDSs to assess the alleged disability. The information, together with other evidence, is used to determine if an individual claiming disability benefits has an impairment that meets severity and duration requirements. The respondents are disability applicants and other sources of evidence. SSA uses various forms to collect the information specified in the regulations. The public reporting burden is accounted for in the Information Collection Requests for these forms. Consequently, we are assigning a placeholder of 1-hour to the specific reporting requirements in theses listings so that we do duplicate the burden assigned to the forms.

Type of Request: Extension of an approved OMB information collection.

9. Social Security Disability Report—20 CFR 404.1512 & 416.912—0960-0579. SSA requires applicants for disability payments to furnish medical, work history, and other evidence or information indicating they have an impairment which is disabling. This information is collected by form SSA-3368, the Adult Disability Report, and is used by State DDSs to make disability determinations for SSA.

The respondents are applicants for Title II and Title XVI disability benefits. These applicants may complete the form using any of the following modalities: (1) The traditional paper form; (2) an interview with an SSA field office representative, using the Electronic Disability Collection System (EDCS); (3) the Internet (i3368); and (4) a new modality, the i3368-PRO, an Internet form designed to be completed by representatives of applicants for disability payments. The latter three versions of the form collect the same information as the paper form, but may be formatted differently and include certain enhancements (ex: self-help screens) to guide the claimant or interviewer through the application process.

Type of Request: Revision to an OMB-approved information collection.

Collection format | Number of respondents | Frequency of response | Average burden per response (hours) | Estimated annual burden (hours)
SSA-3368 (Paper version) | 10,000 | 1 | 1 | 10,000
Field office/Electronic Disability Collection System (EDCS) | 1,956,667 | 1 | 1 | 1,956,667
i3368 (Internet version; Hour burden varies from 1½-3 hours, depending on information required) | 66,000 | 1 | 2½ | 165,000
i3368-PRO | 84,000 | 1 | 1½ | 126,000
Totals | 2,116,667 |  |  | 2,257,667

II. The information collections listed below have been submitted to OMB for clearance. Your comments on the information collections would be most useful if received by OMB and SSA within 30 days from the date of this publication. You can obtain a copy of the OMB clearance packages by calling the SSA Reports Clearance Officer at 410-965-0454, or by writing to the address listed above.

1. The Census Bureau Survey of Income and Program Participation (SIPP) on Behalf of the Social Security Administration (SSA)—0960-NEW. SSA has requested the Census Bureau to include in its SIPP interviews scheduled for January 2005 a sample of social security disabled insurance beneficiaries and SSI recipients. SSA will use these data to conduct statistical research of recipients of SSA-administered programs. The SIPP for SSA Beneficiaries is a household-based survey molded around a central “core” of labor force and income questions. The core is supplemented with questions designed to address specific needs, such as obtaining information about assets and liabilities, as well as expenses related to work, health care, child support and real estate/dependent care. These supplemental questions are included with the core and are referred to as “topical modules.”

The topical modules for the SIPP for SSA Beneficiaries collect information about:

• Medical Expenses and Utilization of Health Care (Adults and Children).

• Work-Related Expenses, Child Support Paid and Child Care Poverty.

• Assets, Liabilities, and Eligibility.

• Dependent Care.

The survey will include approximately 2,000 households. We estimate that each household will average 2.1 people, yielding 4,200 interviews. On average interviews take 45 minutes. The survey interviews will be conducted from January 1, 2005 through January 31, 2005.

Type of Request: New Information Collection.

Number of Respondents: 4,200.

Frequency of Response: 1.

Average Burden per Response: 45 minutes.

Estimated Annual Burden: 3,150 hours.

2. Employee Identification Statement—20 CFR 404.702—0960-0473. The information collected on Form SSA-4156 is needed in scrambled earnings situations when two or more individuals have used the same social security number (SSN), or when an employer (or employers) have reported earnings for two or more employees under the same SSN. The information on the form is used to help identify the individual (and the SSN) to whom the earnings belong. The respondents are employers who have reported erroneous wages.

Type of Request: Extension of an OMB-approved information collection.

Number of Respondents: 4,750.

Frequency of Response: 1.

Average Burden Per Response: 10 minutes.

Estimated Average Burden: 792 hours.

III. Agency Information Collection Activities: Emergency Consideration Request SSA is requesting emergency consideration from OMB two weeks from the date of publication of the information collection listed below. Therefore, please submit your comments prior to this date.

1. Public Understanding Measurement System (PUMS) 0960-NEW. As required by Section 2(b) of the Government Performance and Results Act (GPRA), which provides that Agencies establish the means for measuring their progress in achieving agency-level goals, SSA established the PUMS in 1998 as a tool for measuring its performance in meeting its strategic objectives in the area of public knowledge about and understanding of the Social Security program. The instrument used in PUMS is a national phone survey of adult Americans (age 18 and over) conducted annually for SSA by a professional polling organization.

SSA has recently revised its strategic performance objective to “measure the percent of adult Americans who are knowledgeable about the current Social Security program and related issues, including long-range financing.” For 2004, SSA has adjusted its PUMS process to collect data on this revised measure. Once this data is collected, then SSA will set a strategic performance goal with yearly performance targets as required by the GPRA.

The survey instrument is designed to collect knowledge data at the national level via 1,400 national surveys. Additionally, the survey is designed to assure a valid knowledge measure for key populations toward which SSA has targeted education and outreach programs. This information is a crucial step in making SSA more focused and effective in its communication programs. The respondents will be randomly selected adults residing in the United States.

Type of Request: Emergency.

Number of Respondents: 1,400.

Frequency of Response: 1.

Average Burden Per Response: 15 minutes.

Estimated Annual Burden: 350 hours.

Dated: October 25, 2004.
Elizabeth A. Davidson,
Reports Clearance Officer, Social Security Administration.

[FR Doc. 04-24312 Filed 10-29-04; 8:45 am]

BILLING CODE 4191-02-P